DEPARTMENT OF TRANSPORTATION

National Highway Traffic Safety Administration

[Docket No. NHTSA-2007-0030; Notice 1]

Graco Children's Products, Inc., Receipt of Petition for Decision of Inconsequential Noncompliance

Correction

In notice document E7-21903 beginning on page 63231 in the issue of Thursday, November 8, 2007, make the following correction:

On page 63232, in the first column, in the first full paragraphÿ7E, “December 10, 2007” should read “November 19, 2007”.

[FR Doc. Z7-21903 Filed 11-15-07; 8:45 am]

BILLING CODE 1505-01-D

DEPARTMENT OF THE TREASURY

Internal Revenue Service

26 CFR Part 1

[REG-113891-07]

RIN 1545-BG72

Benefit Restrictions for Underfunded Pension Plans

Correction

In proposed rule document 07-4262 beginning on page 50544 in the issue of Friday, August 31, 2007, make the following correction:

On page 50556, in the first column, in the third bullet point, the second sentence, beginning with “The notice is required...” should begin its own paragraph.

[FR Doc. C7-4262 Filed 11-15-07; 8:45 am]

BILLING CODE 1505-01-D